DEPARTMENT OF COMMERCE

National Oceanic and Atmospheric Administration

RIN 0648-XE288

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scallop Committee Meeting on Thursday, November 19, 2015 to consider actions affecting New England fisheries in the exclusive economic zone (EEZ). Recommendations from this group will be brought to the full Council for formal consideration and action, if appropriate.

DATES: This meeting will be held on Thursday, November 19, 2015 at 9 a.m.

ADDRESSES: The meeting will be held at the Radisson Airport Hotel, 2081 Post Road, Warwick, RI 02886; telephone: (401) 739-3000; fax: (401) 732-9309.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Committee will review Amendment 19 alternatives, analyses, and public comments received to date and make final recommendations. Amendment 19 was developed to consider measures to better align fishery allocations with the start of the scallop fishing year. They will also review Framework 27 alternatives and analyses and make final recommendations. Framework 27 was developed to consider fishery allocations for fishing year 2016 and default measures for fishing year 2017. The Committee will review progress to date and potentially provide input on a future Council sponsored workshop related to concerns raised about inshore scallop fishing patterns. Finally, the Committee will review and potentially provide input on draft guidance prepared by NMFS related to the Magnuson Act requirement to evaluate limited access privilege programs within five years after adoption. Other business may be discussed if time permits.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: October 29, 2015.
Jeffrey N. Lonergan,
Acting Deputy Director, Office of Sustainable Fisheries, National Marine Fisheries Service.

[FR Doc. 2015-27951 Filed 11-2-15; 8:45 am]

BILLING CODE 3510-22-P